NATIONAL AERONAUTICS AND SPACE ADMINISTRATION

[Notice (08-070)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Kaprice L. Harris, Attorney Advisor, Glenn Research Center at Lewis Field, Code 500-118, Cleveland, OH 44135; telephone (216) 433-5754; fax (216) 433-6790.

NASA Case No. LEW-18256-1: An N Channel Jfet Based Digital Logic;

NASA Case No. LEW-17904-3: Synthesis of Asymmetric 6F-Dianhydride and Corresponding Tetracarboxylic Acid;

NASA Case No. LEW-18291-1: Adaptive Morphological Feature-Based Object Classifier for a Color Imaging System;

NASA Case No. LEW 18254-1: Simultaneous Non-Contact Precision Measurement of Microstructural and Thickness Variation in Dielectric Materials Using Terahertz Energy.

Dated: October 3, 2008.
Michael C. Wholley,
General Counsel.

[FR Doc. E8-24058 Filed 10-8-08; 8:45 am]

BILLING CODE 7510-13-P